DEPARTMENT OF COMMERCE

International Trade Administration

(C-533-825)

Polyethylene Terephthalate Film, Sheet, and Strip from India: Final Results of Countervailing Duty Administrative Review

AGENCY: Import Administration, International Trade Administration, Department of Commerce.

SUMMARY: On August 7, 2008, the Department of Commerce (Department) published in the Federal Register the preliminary results of administrative review of the countervailing duty order on polyethylene terephthalate film, sheet, and strip (PET film) from India for the period January 1, 2006 through December 31, 2006. See Polyethylene Terephthalate Film, Sheet, and Strip from India: Preliminary Results of Countervailing Duty Administrative Review, 73 FR 45956 (August 7, 2008) (Preliminary Results). Based on the results of our analysis of the comments received, the Department has revised the subsidy rates for the respondent, MTZ Polyfilms, Ltd. (MTZ). The final subsidy rate for the reviewed company is listed below in the section entitled “Final Results of Review.”

EFFECTIVE DATE: December 12, 2008.

FOR FURTHER INFORMATION CONTACT: Elfi Blum, AD/CVD Operations, Office 6, Import Administration, International Trade Administration, U.S. Department of Commerce, 14th Street and Constitution Avenue, NW, Washington, DC 20230; telephone: (202) 482-0197.

SUPPLEMENTARY INFORMATION:

Background

Since the publication of the Preliminary Results, the following events have occurred. The Department issued its fifth supplemental questionnaire to the Government of India (GOI) and to MTZ on August 15, 2008. The GOI and MTZ filed their fifth supplemental responses on August 29, 2008 and on September 9, 2008, respectively. On September 4, 2008, the Department extended the briefing schedule to include MTZ's fifth supplemental response, and on September 12, 2008, the Department extended the deadline for interested parties to request a hearing. MTZ filed a case brief on September 15, 2008, and the petitioners, Dupont Teijin Films, Mitsubishi Polyester Film of America, and Toray Plastics (America), Inc., filed a rebuttal brief on September 22, 2008.¹ Based on a request by MTZ, a hearing, including a closed session, was held on October 6, 2008.

¹ Certain information referred to in MTZ's case brief was untimely. This information was inadvertently discussed in the hearing. On October 15, 2008, MTZ and petitioners re-filed their respective briefs with the information redacted. A copy of the official hearing transcript with the information redacted was placed on the record on October 23, 2008.

Scope of the Order

For purposes of the order, the products covered are all gauges of raw, pretreated, or primed Polyethylene Terephthalate Film, Sheet and Strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Analysis of Comments Received

All issues raised in the case and rebuttal briefs by parties to this administrative review are addressed in the Issues and Decision Memorandum in the Final Results of the Countervailing Duty Administrative Review of Polyethylene Terephthalate Film, Sheet, and Strip (PET Film) from India, from Stephen J. Claeys, Deputy Assistant Secretary to David M. Spooner, Assistant Secretary for Import Administration (December 5, 2008) (Issues and Decision Memorandum), which is hereby adopted by this notice. The Issues and Decision Memorandum also contains a complete analysis of the programs covered by this review and the methodologies used to calculate the subsidy rates. A list of the comments raised in the briefs and addressed in the Issues and Decision Memorandum is appended to this notice. The Issues and Decision Memorandum is on file in the Central Records Unit, Room 1117 of the main Department building, and can be accessed directly on the Web at http://ia.ita.doc.gov/frn.

Changes Since the Preliminary Results

Based on our analysis of comments received, we have made some adjustments in the methodology that was used in the Preliminary Results for calculating MTZ's subsidy rates under several programs. All changes are discussed in detail in the Issues and Decision Memorandum.

Final Results of Review

In accordance with section 751(a)(1)(A) of the Tariff Act of 1930, as amended (Act) and 19 CFR 351.221(b)(5), we calculated individual ad valorem subsidy rates for MTZ, the only producer/exporter subject to review for the calendar year 2006, the period of review for this administrative review.

Manufacturer/Exporter | Net Subsidy Rate
MTZ Polyfilms Ltd. | 65.59 %%

Assessment and Cash Deposit Instructions

The Department intends to issue assessment instructions to U.S. Customs and Border Protection (CBP) 15 days after the date of publication of these final results of review to liquidate shipments of subject merchandise by MTZ entered, or withdrawn from warehouse, for consumption on or after January 1, 2006 through December 31, 2006, at 65.59 percent ad valorem of the entered value. We will also instruct CBP to collect cash deposits of estimated countervailing duties, at this rate, on shipments of the subject merchandise by MTZ entered, or withdrawn from warehouse, for consumption on or after the date of publication of these final results of review. For all non-reviewed companies, the Department has instructed CBP to assess countervailing duties at the cash deposit rates in effect at the time of entry, for entries between January 1, 2006 and December 31, 2006. The cash deposit rates for all companies not covered by this review are not changed by the results of this review.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: December 5, 2008.
David M. Spooner,
Assistant Secretary for Import Administration.

Appendix I

List of Issues Addressed in the Issues and Decision Memorandum

Pre-Shipment and Post-Shipment Export Financing Program

Comment 1: MTZ's Participation in the Pre-Shipment and Post-Shipment Export Financing Program

Benefit Calculation Under the Export Promotion Capital Goods Scheme (EPCGS)

Comment 2: Education Cess

Comment 3: Special Additional Duty

Comment 4: Unpaid Import Duty Liabilities (Benefit Earned and Denominator)

Comment 5: Partial Fulfillment of Export Obligation

Comment 6: Interest Rate Benchmark for Contingent Liabilities

Advanced License Program (ALP)

Comment 7: Countervailability of the ALP

Union Territories Central Sales Tax Programs (CST)

Comment 8: The Benefits Received Under the Program

Comment 9: Adjustments to Cash Deposit Rates to Account for Program-Wide Changes

Comity

Comment 10: Principle of Comity in the EPCGS and ALP

Due Process

Comment 11: Due Process Claims

[FR Doc. E8-29482 Filed 12-11-08; 8:45 am]

BILLING CODE 3510-DS-S